DEPARTMENT OF JUSTICE

[OMB Number 1121-NEW]

Agency Information Collection Activities; Proposed eCollection eComments Requested; New Collection: National Prisoner Statistics Program: Coronavirus Pandemic Supplement

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until February 8, 2021.

FOR FURTHER INFORMATION CONTACT: If you have additional comments especially on the estimated public burden or associated response time, suggestions, or need a copy of the proposed information collection instrument with instructions or additional information, please contact E. Ann Carson, Statistician, Bureau of Justice Statistics, 810 Seventh Street NW, Washington, DC 20531 (email: elizabeth.carson@usdoj.gov; telephone: 202-616-3496).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: National Prisoner Statistics program: Coronavirus Pandemic Supplement (NPS-CPan).

(3) The agency form number, if any, and the applicable component of the Department sponsoring the collection: The form number is NPS-CPan. The applicable component within the Department of Justice is the Bureau of Justice Statistics, in the Office of Justice Programs.

(4) Affected public who will be asked or required to respond, as well as a brief abstract: Respondents will be staff from state departments of correction and the Federal Bureau of Prisons. The NPS-CPan survey will request information on the prison response to the coronavirus disease (COVID-19) between March 1, 2020 and February 28, 2021, including: Monthly counts of admissions and stock populations in all publicly and privately operated facilities within each state, the total number of persons who received expedited release from prison due to the COVID-19 pandemic and criteria for deciding which prisoners received expedited release, the number of tests performed on prisoners and staff, the number of unique prisoners and staff testing positive for COVID-19, the age, sex, and race distributions of prisoners testing positive for, and dying from COVID-19, the number of prison staff who died from COVID-19, and the use of common mitigation tactics in facilities to identify persons with the disease and prevent its spread.

(5) An estimate of the total number of respondents and the amount of time estimated for an average respondent to respond: BJS estimates that responding to the NPS-CPan survey will require an average of 4 hours, based on feedback from respondents to a cognitive test of the data collection.

(6) An estimate of the total public burden (in hours) associated with the collection: There is an estimated 204 total burden hours associated with this collection.

If additional information is required contact: Melody Braswell, Department Clearance Officer, United States Department of Justice, Justice Management Division, Policy and Planning Staff, Two Constitution Square, 145 N Street NE, 3E.405A, Washington, DC 20530.

Dated: December 3, 2020.
Melody Braswell,
Department Clearance Officer for PRA, U.S. Department of Justice.

[FR Doc. 2020-26939 Filed 12-7-20; 8:45 am]

BILLING CODE 4410-18-P